CENTRAL INTELLIGENCE AGENCY

32 CFR Part 1908

Mandatory Declassification Review

CFR Correction

In Title 32 of the Code of Federal Regulations, Part 800 to end, revised as of July 1, 2016, on page 474, revise § 1908.04 to read as follows:

§ 1908.04 Suggestions and complaints.

The Agency welcomes suggestions, comments, or complaints with regard to its administration of the mandatory declassification review program established under Executive Order 13526. Members of the public shall address such communications to the CIA Information and Privacy Coordinator. The Agency will respond as determined feasible and appropriate under the circumstances.

[FR Doc. 2017-13496 Filed 6-27-17; 8:45 am]

BILLING CODE 1300-00-D